DEPARTMENT OF HOMELAND SECURITY

Office of the Secretary

[Docket No. DHS-2008-0128]

Privacy Act of 1974; Federal Emergency Management Agency—006 Citizen Corps Database System of Records

AGENCY: Privacy Office; DHS.

ACTION: Notice of Privacy Act system of records.

SUMMARY: In accordance with the Privacy Act of 1974 and as part of the Department of Homeland Security's ongoing effort to review and update legacy system of records notices, the Department of Homeland Security is giving notice that it proposes to update and reissue the following legacy record system FEMA/VOL-1 Citizen Corps Database (April 29, 2002) as a Department of Homeland Security system of records notice titled, Federal Emergency Management Agency—006 Citizen Corps Database. Categories of individuals, categories of records, and the routine uses of this legacy system of records notice have been reviewed and updated to better reflect the Department of Homeland Security's Federal Emergency Management Agency Citizen Corps Database. The Citizen Corps, through its internet site at http://www.citizencorps.gov, allows individuals to indicate their interest in specific voluntary programs. Information concerning those desired activities is then disseminated by DHS/FEMA to the appropriate organization for further processing or response. The Citizen Corps coordinates efforts among several organizations, including the Community Emergency Response Teams (CERT), the Fire Corps, the Office of the Civilian Volunteer Medical Reserve Corps (MRC), the National Neighborhood Watch Program, the Volunteers in Police Service (VIPS), the Operation Terrorism Information and Prevention System (TIPS), the Corporation for National and Community Service (CNCS), and the Citizen Corps Council. In addition, these entities may express an interest in sharing their respective contact and similar information with other participants in these programs. This new system will be included in the Department of Homeland Security's inventory of record systems.

DATES: Written comments must be submitted on or before January 20, 2009.

ADDRESSES: You may submit comments, identified by docket number DHS-2008-0128 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket, to read background documents, or comments received, go to http://www.regulations.gov.

FOR FURTHER INFORMATION CONTACT: For general questions please contact: Federal Emergency Management Agency Privacy Officer, Federal Emergency Management Agency. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/Federal Emergency Management Agency (FEMA) have relied on preexisting Privacy Act systems of records notices for the collection and maintenance of records that concern the DHS/FEMA Citizen Corps.

As part of its efforts to streamline and consolidate its record systems, DHS is updating and reissuing a system of records under the Privacy Act (5 U.S.C. 552a) that deals with the DHS/FEMA Citizen Corps. This record system will allow DHS/FEMA to collect and maintain records regarding individuals who express an interest in the Citizen Corps programs and activities, which include the Community Emergency Response Teams (CERT), the Fire Corps, the Office of the Civilian Volunteer Medical Reserve Corps (MRC), the National Neighborhood Watch Program, the Volunteers in Police Service (VIPS), the Operation Terrorism Information and Prevention System (TIPS), the Corporation for National and Community Service (CNCS), and the Citizen Corps Council. The collection and maintenance of this information will assist DHS/FEMA in recording individuals who express interest in Citizen Corps programs and activities.

In accordance with the Privacy Act of 1974 and as part of DHS's ongoing effort to review and update legacy system of records notices, DHS is giving notice that it proposes to update and reissue the following legacy record system FEMA/VOL-1 Citizen Corps Database (67 FR 30685, April 29, 2002) as a DHS system of records notice titled, DHS/FEMA—006 Citizen Corps Database. Categories of individuals and categories of records have been reviewed, and the routine uses of this legacy system of records notice have been updated to better reflect DHS/FEMA's Citizen Corps Database. The Citizen Corps, through its internet site at http://www.citizencorps.gov, allows individuals to indicate their interest in specific voluntary programs. Information concerning those desired activities is then disseminated by DHS/FEMA to the appropriate organization for further processing or response. The Citizen Corps coordinates efforts among several organizations, including the Community Emergency Response Teams (CERT), the Fire Corps, the Office of the Civilian Volunteer Medical Reserve Corps (MRC), the National Neighborhood Watch Program, the Volunteers in Police Service (VIPS), the Operation Terrorism Information and Prevention System (TIPS), the Corporation for National and Community Service (CNCS), and the Citizen Corps Council. In addition, these entities may express an interest in sharing their respective contact and similar information with other participants in these programs. This new system will be included in the DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the Citizen Corps Database System of Records.

In accordance with 5 U.S.C. 552a(r), DHS has provided a report of this updated system of records to the Office of Management and Budget and to Congress.

System of Records

DHS/FEMA-006

System name:

Federal Emergency Management Agency—006 Citizen Corps Database.

Security classification:

Unclassified.

System location:

Records are maintained at the Federal Emergency Management Agency Headquarters in Washington, DC and field offices.

Categories of individuals covered by the system:

Categories of individuals covered by this system include individuals who express an interest in Citizen Corps programs or activities supporting State and Local governments which include the Community Emergency Response Teams (CERT), the Fire Corps, the Office of the Civilian Volunteer Medical Reserve Corps (MRC), the National Neighborhood Watch Program, the Volunteers in Police Service (VIPS), the Operation Terrorism Information and Prevention System (TIPS), the Corporation for National and Community Service (CNCS), and the Citizen Corps Council. Additionally, various State and Local Government Officials are covered by this system.

Categories of records in the system:

Categories of records in this system include:

• Individual's name;

• Mailing address;

• E-mail address;

• Phone number;

• Volunteer program area and type of interest;

• Date of expression of interest; and

• Emergency preparedness training information, such as; courses taken and dates of courses.

Authority for maintenance of the system:

Federal Records Act, 44 U.S.C. 3101; Section 2, Executive Order 13254, January, 29, 2002; 1998 Appropriations Act (Pub, L, 105-119); and the Homeland Security Act of 2002 (Pub. L. 107-296, Section 224.). Fiscal Year 2008 Consolidated Appropriations Act (Pub. L. 110-161).

Purpose(s):

The Citizen Corps, through its internet site at http://www.citizencorps.gov, allows individuals to indicate their interest in specific voluntary programs. Information concerning those desired activities is then disseminated by DHS/FEMA to the appropriate organization for further processing or response. The Citizen Corps coordinates efforts among several organizations, including the Community Emergency Response Teams (CERT), the Fire Corps, the Office of the Civilian Volunteer Medical Reserve Corps (MRC), the National Neighborhood Watch Program, the Volunteers in Police Service (VIPS), the Operation Terrorism Information and Prevention System (TIPS), the Corporation for National and Community Service (CNCS), and the Citizen Corps Council. In addition, these entities may express an interest in sharing their respective contact and similar information with other participants in these programs.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the USA Freedom Corps, Executive Office of the President.

I. To organizations or activities participating in the Citizen Corps Program if an individual has volunteered to assist this specific type of organization or activity.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by individual's name, mailing address, e-mail address, or volunteer program(s) in which the respondent indicates an interest.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Routine correspondence with governors, mayors, and other State and local officials, as well as private citizens relating to FEMA programs will be destroyed when no longer needed in accordance with FEMA Records Schedule N1-311-86-1, Item 1B4. Records relating to establishment, organization, membership, and policy of external committees that are sponsored by FEMA, but have a membership including representatives from other Federal agencies, States, local governments, and/or public citizens are permanent and will be maintained in accordance with FEMA Records Schedule N1-311-97-2, Item 1.

System Manager and address:

Director, Office of Grants and Training, Federal Emergency Management Agency, 810 Seventh Street, NW., Washington, DC 20531.

Notification procedure:

Individuals seeking notification of and access to any record contained in this system of records, or seeking to contest its content, may submit a request in writing to FEMA's FOIA Officer, 500 C Street, SW., Attn: FOIA Coordinator, Washington, DC 20472.

When seeking records about yourself from this system of records or any other FEMA system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the FEMA may not be able to conduct an effective search, and your request may be denied due to lack of specificity or lack of compliance with applicable regulations.

Record access procedures:

See “Notification procedure” above.

Contesting record procedures:

See “Notification procedure” above.

Record source categories:

Records are generated by the individual and by DHS/FEMA based on individual's responses submitted via the Citizen Corps Web site.

Exemptions claimed for the system:

None.

Dated: December 10, 2008.
Hugo Teufel III,
Chief Privacy Officer, Department of Homeland Security.

[FR Doc. E8-29809 Filed 12-18-08; 8:45 am]

BILLING CODE 4410-10-P